DEPARTMENT OF TRANSPORTATION

Federal Aviation Administration

14 CFR Part 39

[Docket No. FAA-2005-21230; Directorate Identifier 2004-SW-51-AD]

RIN 2120-AA64

Airworthiness Directives; Bell Helicopter Textron Model 206A and 206B Helicopters

AGENCY: Federal Aviation Administration, DOT.

ACTION: Notice of proposed rulemaking (NPRM).

SUMMARY: This document proposes adopting a new airworthiness directive (AD) for Bell Helicopter Textron (Bell) Model 206A and 206B helicopters modified by Aeronautical Accessories, Inc. Supplemental Type Certificate (STC) SH1392SO with certain part-numbered high crosstubes. The AD would require inspecting at specified time intervals and replacing any cracked crosstubes. This proposal is prompted by the discovery of a cracked high forward crosstube. The actions specified by the proposed AD are intended to detect a crack in the crosstube which could lead to failure of the crosstube, collapse of the landing gear, and subsequent loss of control of the helicopter.

DATES: Comments must be received on or before July 18, 2005.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from Aeronautical Accessories, Inc., P.O. Box 3689, Bristol, Tennessee 37625-3689, telephone (423) 538-5151 or (800) 251-7094, fax (423) 538-8469, or e-mail at sales@aero-access.com.

You may examine the comments to this proposed AD in the AD docket on the Internet at http://dms.dot.gov.

FOR FURTHER INFORMATION CONTACT: Marc Belhumeur, Aviation Safety Engineer, FAA, Rotorcraft Directorate, Rotorcraft Certification Office, Fort Worth, Texas 76193-0170, telephone (817) 222-5177, fax (817) 222-5783.

SUPPLEMENTARY INFORMATION:

Comments Invited

We invite you to submit any written data, views, or arguments regarding this proposed AD. Send your comments to the address listed under the caption ADDRESSES. Include the docket number “FAA-2005-21230, Directorate Identifier 2004-SW-51-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

We recently determined that we needed to issue an AD for Bell 206 helicopters that have Aeronautical Accessories, Inc. (AAI) crosstubes installed. This determination was made after receipt of a Malfunction or Defect Report (FAA Form 8010-4) from an operator after the discovery of a cracked crosstube. The crack was discovered during a routine inspection after the landing gear was removed from the aircraft and was not visible while installed on the aircraft, although 50% of the crosstube's diameter was cracked. The cracking occurred in an older AAI crosstube that had been modified from rivet-on supports to the current clamp-on supports.

We have reviewed AAI Alert Service Bulletin (ASB) No. AA-03121, dated October 25, 2004, which describes procedures for inspecting each high fwd crosstube, part number (P/N) 206-321-001 (serial number (S/N) 1001-1152) and each high aft crosstube, P/N 206-321-002 (S/N 2001-2152) for a crack within 300 flight-hours but not later than April 15, 2005.

After reviewing the Malfunction or Defect Report, and the AAI ASB, we have determined that AD action is necessary to mandate recurring inspections of the crosstube and to detect a crack in the crosstube that could lead to failure of the crosstube, collapse of the landing gear, and subsequent loss of control of the helicopter.

This unsafe condition is likely to exist or develop on other helicopters of the same type designs modified with STC SH1392SO. Therefore, the proposed AD would require the following within 300 hours time-in-service (TIS) or 60 days, whichever occurs first, and after that at intervals not to exceed 300 hours TIS or 12 months, whichever occurs first:

• Inspecting each forward crosstube, P/N 206-321-001 with S/N 1001 through 1152, for a crack and replacing any cracked crosstube with an airworthy crosstube before further flight; and

• Inspecting each high aft crosstube, P/N 206-321-002, with S/N 2001 through 2152, for a crack and replacing any cracked crosstube with an airworthy crosstube before further flight.

We estimate that this proposed AD would affect 150 helicopters of U.S. registry. Inspecting both crosstubes on each helicopter would take approximately 3 work hours and replacing both crosstubes, if necessary, would also take approximately 3 work hours. The average labor rate is $65 per work hour. Required parts would cost approximately $2,260 per crosstube. Based on these figures, the total cost impact of the proposed AD on U.S. operators would be $736,500 ($4,910 per helicopter, assuming one inspection and one forward and one aft crosstube replacement on the entire fleet).

Regulatory Findings

We have determined that this proposed AD would not have federalism implications under Executive Order 13132. Additionally, this proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron: Docket No. FAA-2005-21230; Directorate Identifier 2004-SW-51-AD.

Applicability: Model 206A and 206B helicopters modified by Aeronautical Accessories, Inc. Supplemental Type Certificate SH1392SO, with high forward crosstube, part number (P/N) 206-321-001 with serial number (S/N) 1001 through 1152, and high aft crosstube, P/N 206-321-002 with S/N 2001 through 2152, installed, certificated in any category.

Compliance: Required as indicated, unless accomplished previously.

To detect a crack in the crosstube, which could lead to failure of the crosstube, collapse of the landing gear, and subsequent loss of control of the helicopter, accomplish the following:

(a) Within 300 hours time-in-service (TIS) or 60 days, whichever occurs first, and after that at intervals not to exceed 300 hours TIS or 12 months, whichever occurs first, remove each crosstube and inspect it for cracks. Replace any cracked crosstube with an airworthy crosstube before further flight.

Note: Aeronautical Accessories, Inc. Alert Service Bulletin No. AA-03121, dated October 25, 2004, pertains to the subject of this AD.

(b) To request a different method of compliance or a different compliance time for this AD, follow the procedures in 14 CFR 39.19. Contact the Rotorcraft Certification Office, Rotorcraft Directorate, FAA, for information about previously approved alternative methods of compliance.

Issued in Fort Worth, Texas, on May 9, 2005.
David A. Downey,
Manager, Rotorcraft Directorate, Aircraft Certification Service.

[FR Doc. 05-9762 Filed 5-16-05; 8:45 am]

BILLING CODE 4910-13-P